DEPARTMENT OF THE INTERIOR

Bureau of Land Management

[AZ-060-00-1430-EU; AZA 29451]

Notice of Realty Action; Bureau Motion; Noncompetitive Sale of Public Land; Arizona

AGENCY: Bureau of Land Management, Interior.

ACTION: Notice.

SUMMARY: The following land has been found suitable for direct sale under section 203 of the Federal Land Policy and Management Act of 1976 (90 Stat. 2750, 43 USC 1713), at not less than the estimated fair market value of $25,400.00. In accordance with section 7 of the Taylor Grazing Act, 43 USC 315f, and Executive Order 6910, the land described below is hereby classified for disposal by sale. The land will not be offered for sale until at least 60 days after the date of this notice.

Gila and Salt River Meridian, Arizona

T. 18 S., R. 14 E.,

Sec. 19, lot 6.

The area described contains 0.1 acre.

The land described is hereby segregated from appropriation under the public land laws, including the mining laws, pending disposition of this action or 270 days from the date of publication of this notice, whichever occurs first.

This land is being offered by direct sale to Continental School District No. 39. It has been determined that the subject parcel contains no known mineral values; therefore, mineral interests may be conveyed simultaneously. Acceptance of the direct sale offer will qualify the purchaser to make application for conveyance of those mineral interests.

The patent, when issued will contain certain reservations to the United States and will be subject to an existing right-of-way. Detailed information concerning these reservations as well as specific conditions of the sale are available for review at the Tucson Field Office, Bureau of Land Management, 12661 East Broadway, Tucson, Arizona, 85748.

For a period of 45 days from the date of publication of this notice in the Federal Register, interested parties may submit comments to the Field Manager at the above address. In the absence of timely objections, this proposal shall become the final determination of the Department of the Interior.

Dated: July 5, 2000.
Bill Auby,
Acting Field Office Manager.

[FR Doc. 00-19023 Filed 7-26-00; 8:45 am]

BILLING CODE 4310-32-M